ENVIRONMENTAL PROTECTION AGENCY

[EPA-HQ-OPP-2015-0086; FRL-9925-72]

Full SFIREG; Notice of Public Meeting

AGENCY: Environmental Protection Agency (EPA).

ACTION: Notice.

SUMMARY: The Association of American Pesticide Control Officials (AAPCO)/State, Federal Insecticide, Fungicide, and Rodenticide Act (FIFRA), Issues Research and Evaluation Group (SFIREG), Full Committee will hold a 2-day meeting, beginning on June 1, 2015, and ending June 2, 2015. This notice announces the location and times for the meeting and sets forth the tentative agenda topics.

DATES: The meeting will be held on Monday, June 1, 2015, from 8:00 a.m. to 5:00 p.m. and 8:30 a.m. to noon on Tuesday, June 2, 2015.

To request accommodation of a disability, please contact the person listed under FOR FURTHER INFORMATON CONTACT, preferably at least 10 days prior to the meeting, to give EPA as much time as possible to process your request.

ADDRESSES: The meeting will be held at EPA. One Potomac Yard (South Bldg.) 2777 Crystal Dr., Arlington, VA., First Floor, South Conference Room.

FOR FURTHER INFORMATION CONTACT: Ron Kendall, Field and External Affairs Division (7506P), Office of Pesticide Programs, Environmental Protection Agency, 1200 Pennsylvania Ave., NW., Washington, DC 20460-0001; telephone number: (703) 305-5561; fax number: (703) 305-5884; email address: kendall.ron@epa.gov. or Amy Bamber, SFIREG Executive Secretary, at aapco-sfireg@comcast.net.

SUPPLEMENTARY INFORMATION:

I. General Information

A. Does this action apply to me?

You may be potentially affected by this action if you are interested in pesticide regulation issues affecting states and any discussion between EPA and SFIREG on FIFRA field implementation issues related to human health, environmental exposure to pesticides, and insight into EPA's decision-making process. You are invited and encouraged to attend the meetings and participate as appropriate. Potentially affected entities may include, but are not limited to persons who are or may be required to conduct testing of chemical substances under the Federal Food, Drug and Cosmetics Act (FFDCA), or FIFRA and those who sell, distribute or use pesticides, as well as any nongovernment organization. If you have any questions regarding the applicability of this action to a particular entity, consult the person listed under FOR FURTHER INFORMATION CONTACT.

B. How can I get copies of this document and other related information?

The docket for this action, identified by docket identification (ID) number EPA-HQ-OPP-2015-0086, is available at http://www.regulations.gov or at the Office of Pesticide Programs Regulatory Public Docket (OPP Docket) in the Environmental Protection Agency Docket Center (EPA/DC), West William Jefferson Clinton Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Tentative Agenda Topics

1. OPP/OECA Program Updates

2. Update on SmartLabel and the E-Enterprise project

3. Design for the Environment (DfE) logos on pesticide labels

4. SFIREG Guidance on State Managed Pollinator Plans

5. Report on first OPP/OECA Project Officer Training Session

6. Federal Credentials update on any revisions to the state/tribal guidance to clarify regional flexibility in determining inspector experience

7. Discuss adjustments to inspection time allocations (Results of SLA survey)

8. EPA Spanish Labeling Workgroup

9. Discussion on Office of Inspector General (OIG) Quick Action Report on Region 8

10. Review of FY 2016-17 NPM Guidance

III. How can I request to participate in this meeting?

This meeting is open for the public to attend. You may attend the meeting without further notification.

Authority: 7 U.S.C. 136 et seq.

Dated: April 14, 2015.
Jacqueline E. Mosby,
Director, Field and External Affairs Division, Office of Pesticide Programs.

[FR Doc. 2015-09887 Filed 4-28-15; 8:45 am]

BILLING CODE 6560-50-P